FEDERAL DEPOSIT INSURANCE CORPORATION

Sunshine Act Meeting

Pursuant to the provisions of the “Government in the Sunshine Act” (5 U.S.C. 552b), notice is hereby given that the Federal Deposit Insurance Corporation's Board of Directors will meet in open session at 1:00 p.m. on Thursday, December 20, 2001, to consider the following matters:

Discussion Agenda

Memorandum and resolution re: 2002 FDIC Budget.

Memorandum and resolution re: Revised Policy Statement Regarding Minority-Owned Depository Institutions.

The meeting will be held in the Board Room on the sixth floor of the FDIC Building located at 550 7th Street, NW., Washington, DC.

The FDIC will provide attendees with auxiliary aids (e.g., sign language interpretation) required for this meeting. Those attendees needing such assistance should call (202) 416-2089 (Voice); (202) 416-2007 (TTY), to make necessary arrangements.

Requests for further information concerning the meeting may be directed to Mr. Robert E. Feldman, Executive Secretary of the Corporation, at (202) 898-6757.

Dated: December 13, 2001.
Federal Deposit Insurance Corporation.
Robert E. Feldman,
Executive Secretary.

[FR Doc. 01-31197 Filed 12-13-01; 4:35 pm]

BILLING CODE 6714-01-M